DEPARTMENT OF LABOR

Office of Disability Employment Policy

Agency Information Collection Activities; Comment Request; Center for Advancing Policy on Employment for Youth (CAPE-Youth) Data Collection

AGENCY: Office of Disability Employment Policy (ODEP), United States Department of Labor (DOL).

ACTION: Notice of information collections and request for comments.

SUMMARY: In compliance with the Paperwork Reduction Act of 1995, the DOL is soliciting public comments regarding this ODEP-sponsored information collection to the Office of Management and Budget (OMB) for review and approval.

DATES: Comments pertaining to this information collection are due on or before January 25, 2021.

ADDRESSES:

Electronic submission: You may submit comments and attachments electronically at http://www.regulations.gov. Follow the online instructions for submitting comments.

Mail submission: 200 Constitution Ave. NW, Room S-5315, Washington, DC 2020.

Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Robert Trombley, Senior Policy Advisor, ODEP, by telephone at 202-693-7845 (this is not a toll-free number) or by email at DOL_PRA_PUBLIC@dol.gov.

SUPPLEMENTARY INFORMATION: In FY 2019 DOL's ODEP funded a four-year cooperative agreement for CAPE-Youth. CAPE-Youth is focused on supporting state efforts to align state workforce systems to establish pathways toward careers and financial self-sufficiency for youth and young adults with disabilities (Y&YAD). The ultimate goal of CAPE-Youth is to improve transition and employment related outcomes for Y&YAD through the identification and dissemination of evidence-based practices. To achieve this goal, CAPE-Youth is implementing a rapid cycle research strategy with three primary steps: (a) Identify the needs of workforce systems; (b) conduct research and policy analysis that will help address those problems; and (c) based on the findings of research and analysis, develop and disseminate resources to policymakers and key stakeholders.

CAPE-Youth is supporting Y&YAD in three main focus areas:

1. Youth and adult workforce systems collaboration;

2. Professional development for youth workforce practitioners; and

3. Career pathways and work-based learning such as apprenticeships programs for Y&YAD.

In order to support the needs of state policy makers as they work to implement the Workforce Innovation and Opportunity Act (WIOA) and improve employment outcomes for Y&YAD, CAPE-Youth will be conducting several studies, which will require data collection through surveys, focus groups, and interviews. They are as follows:

A. State Collaboration Research—This study uses a mixed method approach to understand collaboration across WIOA partners serving transitioning youth in 50 states, Puerto Rico, and the District of Columbia. In Phase 1, state and local agencies serving youth and young adults will provide data through an on-line survey tool. In Phase 2, up to 10 purposively selected states with a focus on WIOA partners including state systems that support developmental disabilities (DD), mental health, juvenile justice, Foster Care, education, and other impacted systems will participate in 48 focus groups to provide detailed qualitative information on collaboration practices.

B. Pre-Employment Transition Services (Pre-ETS) Implementation Study—This study also uses a mixed method approach. During Phase 1 of this study, Directors of State Vocational Rehabilitation (VR) agencies under WIOA in 50 states, Puerto Rico, U.S. Virgin Islands, American Samoa, Guam, the Northern Marianas and the District of Columbia will provide data on the implementation of Pre-ETS for youth using an on-line survey. In Phase 2 of this study, 25 total State VR staff in up to 5 purposively selected States will participate in .5 hour qualitative interviews to provide detailed qualitative information on the implementation of Pre-ETS for youth with mental health conditions.

C. Study of Professional Development for Youth Workforce Practitioners—This study also will utilize a mixed-methods approach including a survey and focus groups. ODEP will survey a purposeful sample of 300 youth workforce practitioners throughout the country that serve youth and young adults with disabilities. This data from this survey will help identify key topics for discussion in 10 focus groups with 10 youth workforce practitioners. These focus groups will help gather the perceptions of core competencies required to effectively support youth and young adults with disabilities to obtain employment and how to implement meaningful professional development for practitioners.

ODEP will use the data collected through these research efforts to identify how states are implementing aforementioned provisions of WIOA, challenges associated with implementation, and promising practices. CAPE-Youth will disseminate this research through briefs, reports, tools, and technical assistance to state policy makers focused on improving employment outcomes for youth and young adults with disabilities.

This information collection is subject to the Paperwork Reduction Act (PRA). A federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ODEP.

Title of Collection: Center for Advancing Policy on Employment for Youth (CAPE Youth) Data Collection.

OMB Control Number: 1230-0NEW.

Affected Public: State and Local Governments.

Total Estimated Number of Respondents: 1,623.

Total Estimated Number of Responses: 1,623.

Total Estimated Annual Time Burden: 486.3 hours.

Total Estimated Annual Other Costs Burden: $0.

Estimated Hours of Burden to Participant Data Collection—Years 1-3
Study | Number of respondents | Hours/ response
State Collaboration Research | 1120 | 0.76
Pre-Employment Transition Services (Pre-ETS) Implementation Study | 103 | 0.35
Professional Development for Youth Workforce Practitioners | 400 | 1.44

| Respondents | Burden hours
Year 1 Total | 1623 | 1463.25
Year 2-3 Totals | 0 | 0
Three-year Total | 1623 | 1463.25
Three-year Average | 541 | 487.75

Authority: 44 U.S.C. 3506(c)(2)(A).

Dated: November 18, 2020.
Jennifer Sheehy,
Deputy Assistant Secretary, Office of Disability Employment Policy.

[FR Doc. 2020-25937 Filed 11-23-20; 8:45 am]

BILLING CODE 4510-FK-P